NEIGHBORHOOD REINVESTMENT CORPORATION

Sunshine Act Meetings

TIME AND DATE: 2:00 p.m., Thursday, February 16, 2023.

PLACE: 1255 Union Street NE, Fifth Floor, Washington, DC 20002.

STATUS: Parts of this meeting will be open to the public. The rest of the meeting will be closed to the public.

MATTERS TO BE CONSIDERED: Regular Board of Directors meeting.

The General Counsel of the Corporation has certified that in his opinion, one or more of the exemptions set forth in the Government in the Sunshine Act, 5 U.S.C. 552b (c)(2) and (4) permit closure of the following portion(s) of this meeting:

• Executive Session

Agenda

I. Call to Order

II. Sunshine Act Approval of Executive (Closed) Session

III. Executive Session Special Topic

IV. Executive Session Report from CEO

V. Executive Session: Report from CFO

VI. Executive Session: General Counsel Report

VII. NeighborWorks Compass Update

VIII. Action Item Authority to Contract for Development Services for NW Compass

IX. Action Item Approval of Minutes

X. Action Item Election of Vice Chair

XI. Action Item FY23 All-Sources Budget

XII. Action Item Authority to Increase Spend for Procurement Management System (PRISM)

XIII. Discussion Item Report from CIO

XIV. Discussion Item CIGNA Special Delegation

XV. Discussion Item DC Office Relocation Update

XVI. Management Program Background and Updates

XVII. Adjournment

PORTIONS OPEN TO THE PUBLIC: Everything except the Executive Session.

PORTIONS CLOSED TO THE PUBLIC: Executive Session.

CONTACT PERSON FOR MORE INFORMATION: Lakeyia Thompson, Special Assistant, (202) 524-9940; Lthompson@nw.org.

Lakeyia Thompson,
Special Assistant.

[FR Doc. 2023-02707 Filed 2-3-23; 4:15 pm]

BILLING CODE 7570-02-P